DEPARTMENT OF JUSTICE

Notice of Lodging of Consent Decree: Natural Resource Damages Under the Oil Pollution Act of 1990

Notice is hereby given that on March 18, 2002, a proposed Consent Decree: Natural Resource Damages (“Decree”) in United States and State of Alaska v. Kuroshima Shipping, S.A. and Unique Trading Co., Ltd, Civil Action No. A02-0057 (JWS) was lodged with the United States District Court for the District of Alaska.

In this action brought pursuant to section 1002(b)(2)(A) of the Oil Pollution Act of 1990, 33 U.S.C. 2702(b)(2)(A), the United States and that State of Alaska sought natural resource damages, including and subsequent discharge of oil from the M/V Kuroshima in the area of Summer Bay, Unalaska Island, Alaska (“the Kuroshima Spill”). The defendants are the owner and operator of the vessel at the time of the incident. The federal and state natural trustees in consultation with Qawalangin Tribe of Unalaska conducted an assessment of damage to natural resources and loss of use of natural resources occasioned by the Kuroshima Spill and have proposed a plan for restoring these natural resources and the loss of their use by the public. That plan appears as Appendix A to the Decree. The proposed Decree provides that defendants shall pay $644,017 to the natural resource trustees for their conduct of the restoration plan and place another $9,000 in the registry of the Court until the natural resource trustees determine whether the amount is necessary for the field component of the restoration plan aimed at restoring vegetation. The proposed Decree requires that the defendants reimburse the natural resources trustees $66,158.09 for damage assessment costs. In exchange for these payments, the United States and the State of Alaska covenant not to sue the defendants for natural resource damages arising from the Kuroshima Spill.

The Department of Justice will receive for a period of thirty (30) days from the date of this publication comments relating to the proposed Decree. Comments should be addressed to the Assistant Attorney General, Environment and Natural Resources Division, United States Department of Justice and sent to 801 B Street, Suite 504, Anchorage, Alaska 99501-3657. Comments should refer to United States v. Kuroshima Shipping, S.A. et al, D.J. Ref. #90-5-1-1-06147.

The Decree may be examined at the above address by contacting Lorraine Carter (907-271-5452). A copy of the Decree (minus Appendix A) may be obtained by contacting Ms. Carter in writing at the address above. In requesting a copy, please enclose a check in the amount of $5.50 (25 cents per page reproduction cost) payable to the U.S. Treasury. A copy of Appendix A may be obtained during the comment period from the National Oceanic and Atmospheric Administration by contacting Doug Helton at 206-526-4563 or at Doug.Helton@noaaw.gov. Alternately, Appendix A may be viewed at www.darenw.noaa.gov/kuro.htm.

Walter B. Smith,
Principal Deputy Chief, Environmental Enforcement Section, Environment and Natural Resources Division.

[FR Doc. 02-7420 Filed 3-27-02; 8:45 am]

BILLING CODE 4410-15-M